FEDERAL COMMUNICATIONS COMMISSION

[CC Docket No. 92-237; DA 00-734]

Next Meeting of the North American Numbering Council

AGENCY: Federal Communications Commission.

ACTION: Notice.

SUMMARY: On April 7, 2000, the Commission released a public notice announcing the April 25 and 26, 2000, meeting and agenda of the North American Numbering Council (NANC). For reasons described below, a portion of the meeting will be closed to the public on Wednesday, February 23, from 8:30 a.m. until 11 a.m. The intended effect of this action is to make the public aware of the NANC's next meeting and its agenda.

FOR FURTHER INFORMATION CONTACT: Jeannie Grimes at (202) 418-2320 or jgrimes@fcc.gov. The address is: Network Services Division, Common Carrier Bureau, Federal Communications Commission, The Portals, 445 12th Street, S.W., Suite 6A320, Washington, DC 20554. The fax number is: (202) 418-2345. The TTY number is: (202) 418-0484.

SUPPLEMENTARY INFORMATION: Released: April 7, 2000.

The North American Numbering Council (NANC) has scheduled a meeting to be held Tuesday, April 25, 2000, from 8:30 a.m. until 5:00 p.m., and on Wednesday, April 26, from 8:30 a.m. until 12 noon. The meeting will be held at the Federal Communications Commission, Portals II, 445 Twelfth Street, SW, Room TW-C305, Washington, DC.

SUPPLEMENTARY INFORMATION: This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting. Requests to make an oral statement or provide written comments to the NANC should be sent to Jeannie Grimes at the address under FOR FURTHER INFORMATION CONTACT, stated above.

Proposed Agenda—Tuesday, April 25, 2000

1. Approval of March 21-22, 2000 meeting minutes.

2. Review FCC Numbering Resource Optimization Report and Order and Further Notice of Proposed Rulemaking, CC Docket 99-200, released March 31, 2000.

A. NANC action items: Uniform definitions for secondary categories of number usage within 120 days (paragraphs 14 and 36). Work with NANP administration to develop reporting form within 15 days (paragraph 52); data entry mechanisms within 45 days (paragraph 53); criteria to determine inconsistent submissions (paragraph 54), and cost estimates within 30 days (paragraph 56). Revisions to Pooling Administrator Requirements to specific technical requirements within 90 days (paragraph 155). Further study of individual telephone number pooling (ITN) and unassigned number porting (paragraph 231.

B. Rejected NANC recommendations. Two 90-day reservation periods (paragraph 24); reconsider fees for reserved numbers (paragraph 25), and revise INC guidelines to reflect 6-month inventories (paragraph 189).

C. Further Notice of Proposed Rulemaking items: Utilization threshold (paragraph 248); CMRS participation in number pooling (paragraph 25), and revise INC guidelines to reflect 6-month inventories (paragraph 189).

D. Issues not addressed: Audits; rate center consolidation; 10 digit dialing, and technology specific overlays.

3. North American Number Plan Administration (NANPA) Report.

4. Assumptions Issue Management Group (IMG) tutorial on NANP Expansion and the Uniform Dialing Plan.

5. Limited Liability Corporations (LLCs) and Number Portability Administration Centers (NPAC) activity update. Midwest LLC merger, and status of NeuStar negotiations.

6. North American Numbering Plan Administration (NANPA) Oversight Working Group Report.

7. Numbering Resource Optimization (NRO) Working Group Report.

8. Local Number Portability Administration (LNPA) Working Group Report. Updates on wireless wireline integration; Problem Identification Management (PIM); NPAC/SMC release status, and Slow Horse.

9. Cost Recovery Working Group Report.

Wednesday, April 26, 2000

10. Steering Group Report.

11. Industry Numbering Committee Report.

12. Number Pooling IMG Report. Inventories in jeopardy discussion.

13. North American Numbering Plan Administration Billing and Collection Agent (NBANC) Report.

14. Public Participation (5 minutes each, if any).

15. Other Business.

16. Action Items and Decisions Reached.

Federal Communications Commission.

Diane Griffin Harmon,
Deputy Chief, Network Services Division, Common Carrier Bureau.

[FR Doc. 00-9333 Filed 4-12-00; 8:45 am]

BILLING CODE 6712-01-P